DEPARTMENT OF COMMERCE

International Trade Administration

[A-523-812, A-535-903, A-520-807, A-552-820]

Circular Welded Carbon-Quality Steel Pipe From the Sultanate of Oman, Pakistan, the United Arab Emirates, and the Socialist Republic of Vietnam: Postponement of Preliminary Determinations of Antidumping Duty Investigations

AGENCY: Enforcement and Compliance, International Trade Administration, Department of Commerce.

FOR FURTHER INFORMATION CONTACT: Katherine Johnson at (202) 482-4929 (the Sultanate of Oman (Oman)), David Lindgren at (202) 482-3870 (Pakistan), Dennis McClure at (202) 482-5973 (the United Arab Emirates (the UAE)), or Andrew Huston at (202) 482-4261 (the Socialist Republic of Vietnam (Vietnam)); AD/CVD Operations, Enforcement and Compliance, International Trade Administration, U.S. Department of Commerce, 14th Street and Constitution Avenue NW., Washington, DC 20230.

SUPPLEMENTARY INFORMATION:

Postponement of Preliminary Determinations

On November 17, 2015, the Department of Commerce (the Department) initiated antidumping duty investigations of imports of circular welded carbon-quality steel pipe (CWP) from Oman, Pakistan, the UAE and Vietnam.¹ The notice of initiation stated that we would issue our preliminary determinations no later than 140 days after the date of initiation. Currently, the preliminary determinations in these investigations are due on April 11, 2016.²

¹ See Circular Welded Carbon-Quality Steel Pipe From the Sultanate of Oman, Pakistan, the Philippines, the United Arab Emirates, and the Socialist Republic of Vietnam: Initiation of Less-Than-Fair-Value Investigations, 80 FR 73708 (November 25, 2015).

² As explained in the memorandum from the Acting Assistant Secretary for Enforcement & Compliance, the Department has exercised its discretion to toll all administrative deadlines due to the recent closure of the Federal Government. See Memorandum to the Record from Ron Lorentzen, Acting A/S for Enforcement & Compliance, regarding “Tolling of Administrative Deadlines As a Result of the Government Closure During Snowstorm Jonas,” dated January 27, 2016. All deadlines in this segment of the proceeding have been extended by four business days. The revised deadline for the preliminary determination of these investigations is now April 11, 2016.

On March 10, 2016, Bull Moose Tube Company; EXLTUBE; Wheatland Tube, a division of JMC Steel Group; and Western Tube and Conduit (hereafter, the petitioners) made timely requests, pursuant to section 733(c)(1)(A) of the Tariff Act of 1930, as amended (the Act), and 19 CFR 351.205(e), for an extension of the deadline for the preliminary determinations in the investigations.³ The petitioners stated that a postponement of the preliminary determinations in all four CWP investigations is necessary to provide the Department with sufficient time to reach reasoned preliminary determinations.

³ See the petitioners' letter to the Department “Circular Welded Carbon-Quality Steel Pipe from the Sultanate of Oman, Pakistan, the United Arab Emirates, and the Socialist Republic of Vietnam: Petitioners' Request to Extend Preliminary Determination,” dated March 10, 2016.

Under section 733(c)(1)(A) of the Act, if a petitioner makes a timely request for an extension of the period within which the preliminary determination must be made under subsection (b)(1), then the Department may postpone making the preliminary determination under subsection (b)(1) until not later than the 190th day after the date on which the administering authority initiated the investigation. Therefore, for the reasons stated above, and because there are no compelling reasons to deny the petitioners' requests, the Department is postponing the preliminary determinations in these investigations until May 31, 2016, which is 190 days from the date on which the Department initiated these investigations.

The deadline for the final determinations will continue to be 75 days after the date of the preliminary determinations, unless extended.

This notice is issued and published pursuant to section 733(c)(2) of the Act and 19 CFR 351.205(f)(1).

Dated: March 14, 2016.
Paul Piquado,
Assistant Secretary for Enforcement and Compliance.

[FR Doc. 2016-06300 Filed 3-18-16; 8:45 am]

BILLING CODE 3510-DS-P